DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by August 28, 2000.

FOR FURTHER INFORMATION CONTACT: F. Lamont Heppe, Jr., Director, Program Development and Regulatory Analysis, Rural Utilities Service, 1400 Independence Ave., SW., STOP 1522, Room 4036 South Building, Washington, DC 20250-1522. Telephone: (202) 720-9550. FAX: (202) 720-4120.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for reinstatement.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: F. Lamont Heppe, Jr., Director, Program Development and Regulatory Analysis, Rural Utilities Service, U.S. Department of Agriculture, STOP 1522, 1400 Independence Ave., SW., Washington, DC 20250-1522. FAX: (202) 720-4120.

Title: Water and Waste Disposal Programs Guaranteed Loans.

Type of Request: New collection approval.

Abstract: The Rural Utilities Service is authorized by Section 306 of the Consolidated Farm and Rural Development Act (7 U.S.C. 1926) to make loans to public agencies, nonprofit corporations, and Indian tribes for the development of water and waste disposal facilities primarily servicing rural residents. The guaranteed loan program encourages lender participation and provides specific guidance in the processing and servicing of guaranteed loans. The regulations governing the Water and Waste Disposal Guaranteed Loan program are currently codified at 7 CFR 1980, subparts A and I, and the reporting and recordkeeping requirements are currently cleared under OMB Control Numbers 0572-0119 and 0572-0120. The Agency issued a proposed rule dated October 7, 1997, at 62 FR 52277, that proposed to amend 7 CFR 1980, subparts A and I. The Agency is currently working on the final rule and when the rule is finalized the Water and Waste Disposal Guaranteed Loan program will be codified at 7 CFR 1779 and covered under a new OMB Control number, incorporating all requirements for the program.

Estimate of Burden: Public reporting burden for this collection of information is estimated to average 7.8 hours per response.

Respondents: Business or other for profit; not-for-profit institutions; State, Local or Tribal Government.

Estimated Number of Respondents: 15.

Estimated Number of Responses per Respondent: 7.3.

Estimated Total Annual Burden on Respondents: 858 hours.

Copies of this information collection can be obtained from Michele Brooks, Program Development and Regulatory Analysis, at (202) 690-1078. FAX: (202) 720-4120.

All responses to this notice will be summarized and included in the request for OMB approval. All comments will also become a matter of public record.

Dated: June 20, 2000.
Christopher A. McLean,
Acting Administrator, Rural Utilities Service.

[FR Doc. 00-16273 Filed 6-27-00; 8:45 am]

BILLING CODE 3410-15-P